DEPARTMENT OF LABOR

Employment and Training Administration

[NAFTA-3624]

Ritvik Holdings, Inc., Lakeville, MA; Notice of Termination of Investigation

Pursuant to Section 221 of the Trade Act of 1974, an investigation was initiated on December 16, 1999, in response to a worker petition which was filed on behalf of workers at Ritvik Holdings, Inc., Lakeville, Massachusetts.

The Corporation for Business, Work, and Learning (CBWL Trade Unit) of Boston, Massachusetts has determined that the subject firm is a Canadian corporation, located in Canada and doing business in Canada, and therefor its workers are not eligible for NAFTA Transitional Adjustment Assistance under the Trade Act of 1974.

Consequently further investigation in this case would serve no purpose, and the investigation has been terminated.

Signed in Washington, D.C. this 14th day of March, 2000.
Grant D. Beale,
Program Manager, Division of Trade Adjustment Assistance.

[FR Doc. 00-7122 Filed 3-21-00; 8:45 am]

BILLING CODE 4510-30-M